DEPARTMENT OF TRANSPORTATION

National Highway Traffic Safety Administration

[Docket No. NHTSA-2023-0024]

Agency Information Collection Activities; Submission to the Office of Management and Budget for Review and Approval; Request for Comment; First Responder Incident Advanced Reporting Program

AGENCY: National Highway Traffic Safety Administration (NHTSA), Department of Transportation (DOT).

ACTION: Notice and request for comments on the request for approval of a new information collection.

SUMMARY: In compliance with the Paperwork Reduction Act of 1995 (PRA), this notice announces that the Information Collection Request (ICR) summarized below will be submitted to the Office of Management and Budget (OMB) for review and approval. The ICR describes the nature of the information collection and its expected burden. First Responder Incident Advanced Reporting Program (FRIAR) in which first responders (e.g., law enforcement, fire department, and emergency medical services) may submit information about fatalities, injuries, or crashes that may have been caused due to a motor vehicle or equipment defect. A Federal Register Notice with a 60-day comment period soliciting comments on the following information collection was published on June 12, 2023. No comments were received.

DATES: Comments must be submitted on or before May 13, 2024.

ADDRESSES: Written comments and recommendations for the proposed information collection, including suggestions for reducing burden, should be submitted to the Office of Management and Budget at www.reginfo.gov/public/do/PRAMain. To find this information collection, select “Currently under Review—Open for Public Comment” or use the search function.

FOR FURTHER INFORMATION CONTACT: For additional information or access to background documents, contact Tanya Topka, Office of Defects Investigation (NEF-100), (202) 366-9590, National Highway Traffic Safety Administration, W48-336, U.S. Department of Transportation, 1200 New Jersey Avenue SE, Washington, DC 20590.

SUPPLEMENTARY INFORMATION: Under the PRA (44 U.S.C. 3501 et seq.), a Federal agency must receive approval from the Office of Management and Budget (OMB) before it collects certain information from the public and a person is not required to respond to a collection of information by a Federal agency unless the collection displays a valid OMB control number. In compliance with these requirements, this notice announces that the following information collection request will be submitted OMB.

Title: First Responder Incident Advanced Reporting Program.

OMB Control Number: 2127-XXXX.

Form Number: NA.

Type of Request: New.

Type of Review Requested: Regular.

Length of Approval Requested: Three years.

Summary of the Collection of Information:

Description of the Need for the Information and Proposed Use of the Information:

60-Day Notice:

A Federal Register notice with a 60-day comment period soliciting public comments on the following information collection was published on June 12, 2023. (No comments were received). If NHTSA received comments, describe the comments, and include a response to the comments].

Affected Public: Law Enforcement.

Estimated Number of Respondents: 10.

Frequency: occasionally.

Number of Responses: 10.

Estimated Total Annual Burden Hours: 2.5.

Estimated Total Annual Burden Cost: $97.83.

Public Comments Invited: You are asked to comment on any aspects of this information collection, including (a) whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on respondents, including the use of appropriate automated, electronic, mechanical, or other technological collection techniques or other forms of information technology, e.g., permitting electronic submission of responses.

Authority: The Paperwork Reduction Act of 1995; 44 U.S.C. chapter 35, as amended; 49 CFR 1.49; and DOT Order 1351.29A.

Issued on April 9, 2024.
Tanya Topka,
Director.

[FR Doc. 2024-07824 Filed 4-11-24; 8:45 am]

BILLING CODE 4910-59-P